OFFICE OF PERSONNEL MANAGEMENT

Science and Technology (S&T) Reinvention Laboratory Personnel Demonstration Project, Department of the Navy, Naval Sea Systems Command Warfare Centers

AGENCY: Office of Personnel Management (OPM).

ACTION: Notice of amendment of a demonstration project plan to establish a new category of positions designated as Senior Scientific Technical Manager (SSTM).

SUMMARY: 5 U.S.C. 4703 authorizes OPM to conduct demonstration projects that experiment with new and different personnel management concepts to determine whether such changes in personnel policy or procedures would result in improved Federal personnel management.

Public Law 103-337, October 5, 1994, permits the Department of Defense (DoD), with the approval of OPM, to carry out personnel demonstration projects generally similar to the China Lake demonstration project at DoD S&T reinvention laboratories. The Warfare Centers commenced implementation of their demonstration project on March 15, 1998.

DATES: The Warfare Centers may implement this amendment to the personnel demonstration project beginning on August 29, 2000.

FOR FURTHER INFORMATION CONTACT: Warfare Centers: Vicki Warner, NSWC/NUWC Demonstration Project Office, NSWCDD, HR Department, 17320 Dahlgren Road, Dahlgren, VA 22448, phone 540-653-8507.

OPM: Joan Jorgenson, U.S. Office of Personnel Management, 1900 E Street NW, Room 7458, Washington, DC 20415, phone 202-606-1315.

SUPPLEMENTARY INFORMATION:

1. Background

On Wednesday, December 3, 1997, OPM approved and published in the Federal Register (Volume 62, Number 232, Part II) the final plan for the S&T Reinvention Laboratory Personnel Demonstration Project at the Naval Sea Systems Command Warfare Centers. Additionally, on Wednesday, July 21, 1999, OPM approved and published in the Federal Register (Volume 64, Number 139, pages 39179-39181) an amendment to the plan.

The demonstration project involves a simplified classification system, performance development and incentive pay systems, a streamlined reduction-in-force system, and a simplified examining and appointment process.

2. Overview

From the initial development of their personnel demonstration project concept plan, the Warfare Centers have had, as a principal objective, the establishment of a flexible classification and compensation system. Consistent with numerous independent studies of laboratory effectiveness over the last several decades, such a system is considered essential to recruiting and retaining a world-class workforce. The project plan published on December 3, 1997, largely meets that objective. However, it falls short of addressing a relatively small, but critical, element of the Warfare Centers' scientific and engineering workforce, i.e., employees with responsibilities substantially exceeding the GS-15 classification criteria and not otherwise appropriately designated as Senior Level (SL) or Scientific and Professional (ST). The Warfare Centers intend to resolve this deficiency by amending the project plan to recognize a new category of positions, Senior Scientific Technical Manager (SSTM).

Office of Personnel Management.
Janice R. Lachance,
Director.

I. Executive Summary

The Department of the Navy (DON) established the Naval Sea Systems Command Warfare Centers personnel demonstration project to be generally similar to the system in use by the permanent demonstration project at the Naval Command, Control, and Ocean Surveillance Center, San Diego, CA and the Naval Air Warfare Center, Weapons Division, China Lake, CA (commonly called “the China Lake demonstration project”). The Warfare Centers demonstration project and this amendment are designed to promote the overall goal of implementing a human resources management system that facilitates mission execution and organizational excellence; responds to today's dynamic environment by obtaining, developing, utilizing, incentivizing, and retaining high performing employees; and permits adjustment of workforce levels to meet program and organizational needs.

II. Introduction

The purpose of this notice is to add a new category of positions, Senior Scientific Technical Manager (SSTM). Broad band VI of the scientific and engineering career path is redefined as described below, and all references to this broad band in the final plan published in the Federal Register on December 3, 1997 are hereby brought into conformance with this new definition. (Note particularly that positions which, prior to project implementation, were classified as ST or SL are hereby removed from this broad band.) Other provisions of the approved plan are unchanged. Pursuant to 5 CFR 470.315, changes are hereby made to the Federal Register, Science and Technology Reinvention Laboratory Personnel Demonstration Project at the Naval Sea Systems Command Warfare Centers; Department of the Navy; Notice, Wednesday, December 3, 1997, Volume 62, Number 232, Part II.

III. Personnel System Changes

A. In Section III B 1, amend Figure 2, Career Paths and Broad Bands, to replace “ST/SL” with “SSTM” as the label for broad band level ND-VI.

B. At the end of Section III B 1 b, Broad Bands and Levels of Responsibility, append the following text:

The Warfare Centers broad banding plan creates a pay band in the Scientific and Engineering occupational family for Senior Scientific Technical Managers. The current definitions of Senior Executive Service (SES), Senior Level (SL), and Scientific and Professional (ST) positions do not fully meet the needs of the Warfare Centers.

The SES designation is appropriate for executive level managerial positions whose classification exceeds grade 15 of the General Schedule. The primary knowledge and abilities of employees occupying SES positions relate to supervisory and managerial responsibilities. Positions classified as ST are designed for bench research scientists and engineers. These positions require a very high level of technical expertise and have little or no supervisory responsibilities. The SL classification is generally used for positions classifiable above grade GS-15 that do not meet the SES or ST criteria, but have minimal supervisory responsibility.

The Warfare Centers currently have positions that warrant classification above grade 15 of the General Schedule because of their technical expertise requirements. These positions, typically division/office/branch heads, have some characteristics of SES and SL or ST classifications. Most of these positions are responsible for supervising other GS-15 positions, including lower level supervisors, non-supervisory engineers and scientists, and in some cases ST positions. The supervisory and managerial requirements exceed those appropriate for SL and ST positions.

Management considers the primary requirement for these positions to be knowledge of and expertise in the specific scientific and technology areas related to the mission of their organizations, rather than the executive leadership qualifications that are characteristic of the SES. Historically, incumbents of these positions have been recognized within the community as scientific and engineering leaders who possess strong managerial and supervisory abilities. Therefore, although some of these employees have scientific credentials that might compare favorably with ST criteria, classification of these positions as STs or SLs is not an option because the managerial and supervisory responsibilities cannot be ignored.

The project plan is hereby modified to redefine pay band VI of the Scientific and Engineering occupational family. While SL and ST positions will continue to be covered by the demonstration project for incentive pay and other purposes, pay band VI will no longer include SL and ST positions, as described in the project plan. The redefined pay band VI will apply to a new category of positions designated as Senior Scientific Technical Managers (SSTM). Positions so designated will include those requiring both scientific/technical expertise and full managerial and supervisory authority. Their scientific/technical expertise and responsibilities warrant classification above the GS-15 level.

Warfare Centers' positions possibly meeting criteria for designation as SSTM will be reviewed on a case-by-case basis. The salary range for SSTM positions is a minimum of 120% of the minimum rate of basic pay for GS-15, with the maximum rate of basic pay established at the rate of basic pay (excluding locality pay) for SES Level 4 (ES-4).

Vacant SSTM positions will be competitively filled to ensure that selectees are preeminent technical leaders in the specialty fields who also possess managerial and supervisory abilities. Panels will be created to assist in filling SSTM positions. Panel members typically will be current or former SES members, ST employees, and, later, those designated as SSTM. In addition, senior military officers and recognized technical experts from outside the Warfare Centers may also serve, as appropriate. The purpose of the panel is to ensure impartiality, breadth of technical expertise, and a rigorous and demanding review.

The Department of Defense (DoD) will test SSTM positions for a 5-year period. SSTM positions will be subject to limitations imposed by the Office of Personnel Management (OPM) and DoD. SSTM positions will be established only in an S&T reinvention laboratory that employs scientists, engineers, or both. Incumbents of these positions will work primarily in their professional capacity on basic or applied research. Secondarily, they will also perform managerial or supervisory duties.

The number of SSTM positions, and the equivalent in other approved S&T reinvention laboratory personnel demonstration projects within DoD, will not exceed 40. These 40 positions will be allocated by the Assistant Secretary of Defense (Force Management Policy) and administered by the respective Services. The number of positions will be reviewed periodically to determine appropriate position requirements. SSTM (and the equivalent in other S&T reinvention laboratories? demonstration projects) position allocations will be managed separately from SES, ST, and SL allocations. An evaluation of the concept for these positions will be performed during the fifth year of the demonstration project.

Specific details regarding the control and management of all SSTM positions will be included in the Warfare Centers? demonstration project regulations in accordance with guidance developed and provided by DON.

Here ends the text appended at the end of Section III B 1 b, Broad Bands and Levels of Responsibility, of the Warfare Centers? demonstration project plan.

C. After the third paragraph of Section III D 3, Exit from the Demonstration Project, insert the following text:

SSTM employees will convert out of the demonstration project at the GS-15 level. The Warfare Centers will develop procedures to ensure that employees designated as SSTM understand that if they leave the demonstration project and their adjusted pay exceeds the GS-15, step 10 rate, there is no entitlement to retained pay. Their GS-equivalent rate will be the rate for GS-15, step 10. SSTM employees paid below the adjusted GS-15, step 10 rate will be converted to a GS-adjusted rate on the highest applicable rate range for the converted GS grade. (For this purpose, a GS rate range includes a rate range in (1) the GS base schedule, (2) an applicable locality rate schedule, or (3) an applicable special rate schedule.)

D. In Section V A, Waivers to Title 5, United States Code, append the following to the existing waiver of Chapter 53, Section 5363, Pay Retention: For SSTM employees, pay retention provisions are modified so that no rate established under these provisions may exceed the rate of basic pay for GS-15, step 10; i.e., there is no entitlement to a retained rate.

E. In Section V A, Waivers to Title 5, United States Code, substitute the following text for that of the existing waivers for the chapters and sections indicated:

1. Chapter 53, Sections 5301; 5302 (1), (8), and (9); 5303, and 5304: Pay Comparability System. (This waiver applies only to the extent necessary to allow demonstration project employees covered by broad banding, except those designated as SSTM, to be treated as General Schedule employees; to allow SSTM employees to be treated as ST employees; and to allow basic rates of pay under the demonstration project to be treated as scheduled rates of basic pay. This waiver does not apply to Federal Wage System (FWS) employees. Neither does it apply to ST and SL employees, who continue to be covered by these provisions, as appropriate.)

2. Chapter 55, Section 5545(d): Hazardous duty differential. (This waiver applies only to the extent necessary to allow demonstration project employees covered by broad banding to be treated as General Schedule employees. This waiver does not apply to FWS, ST, SL, or SSTM employees.)

3. Chapter 57, Sections 5753, 5754, and 5755: Recruitment and Relocation Bonuses, Retention Allowances, and Supervisory Differentials. (This waiver applies only to the extent necessary to allow demonstration project employees and positions covered by broad banding, except SSTM employees and positions, to be treated as employees and positions under the General Schedule; and to allow SSTM employees and positions to be treated as ST employees and positions. This waiver does not apply to FWS employees. Neither does it apply to ST and SL employees, who continue to be covered by these provisions, as appropriate.)

F. To Section V A, Waivers to Title 5, United States Code, add the following new waivers:

1. Chapter 31, Section 3132: The Senior Executive Service: Definitions and Exclusions.

2. Chapter 33, Section 3324: Appointment to Positions Classified Above GS-15.

G. In Section V B, Waivers to Title 5, Code of Federal Regulations, append the following to the existing waiver of Part 536, Section 536.104: Pay Retention: For SSTM employees, pay retention provisions are modified so that no rate established under these provisions may exceed the rate of basic pay for GS-15, step 10; i.e., there is no entitlement to a retained rate.

H. In Section V B, Waivers to Title 5, Code of Federal Regulations, append the following to the existing waiver of Part 591, subpart B: Cost-of-Living Allowances and Post Differential—Non-Foreign Areas: SSTM employees are to be treated as ST employees for the purposes of these provisions.

I. In Section V B, Waivers to Title 5, Code of Federal Regulations, substitute the following text for that of the existing waivers for the parts and subparts indicated:

1. Part 531, Subpart C: Special Pay Adjustments for Law Enforcement Officers. (This waiver applies only to the extent necessary to allow demonstration project employees covered by broad banding, except SSTM employees, to be treated as General Schedule employees; to allow SSTM employees to be treated as ST employees; and to allow basic rates of pay under the demonstration project to be treated as scheduled annual rates of pay. This waiver does not apply to FWS employees. Neither does it apply to ST and SL employees, who continue to be covered by these provisions, as appropriate.)

2. Part 531, Subpart F: Locality-Based Comparability Adjustments. (This waiver applies only to the extent necessary to allow demonstration project employees covered by broad banding, except SSTM employees, to be treated as General Schedule employees; to allow SSTM employees to be treated as ST employees; and to allow basic rates of pay under the demonstration project to be treated as scheduled annual rates of pay. This waiver does not apply to FWS employees. Neither does it apply to ST and SL employees, who continue to be covered by these provisions, as appropriate.)

3. Part 550, Section 550.902, definition of “employee”: Hazardous Duty Pay. (This waiver applies only to the extent necessary to treat demonstration project employees covered by broad banding as General Schedule employees. This waiver does not apply to FWS, ST, SL, or SSTM employees.)

4. Part 575, subparts A, B, C, and D: Recruitment Bonuses, Relocation Bonuses, Retention Allowances, and Supervisory Differentials. (This waiver applies only to the extent necessary to allow demonstration project employees and positions covered by broad banding, except SSTM employees and positions, to be treated as employees and positions under the General Schedule; and to allow SSTM employees and positions to be treated as ST employees and positions. This waiver does not apply to FWS employees. Neither does it apply to ST and SL employees, who continue to be covered by these provisions, as appropriate.)

[FR Doc. 00-22004 Filed 8-28-00; 8:45 am]

BILLING CODE 6325-01-P